DEPARTMENT OF ENERGY

Office of Science; Fusion Energy Sciences Advisory Committee

AGENCY: Department of Energy.

ACTION: Notice of open meeting.

SUMMARY: This notice announces a meeting of the Fusion Energy Sciences Advisory Committee. The Federal Advisory Committee Act (Pub. L. 92-463, 86 Stat. 770) requires that public notice of these meetings be announced in the Federal Register.

DATES: Tuesday, July 19, 2005, 8 a.m.-6 p.m.

Wednesday, July 20, 2005, 8 a.m.-12 noon.

ADDRESSES: The Marriott Hotel, 9751 Washingtonian Boulevard, Gaithersburg, MD 20878.

FOR FURTHER INFORMATION CONTACT: Albert L. Opdenaker, Office of Fusion Energy Sciences; U.S. Department of Energy;1000 Independence Avenue, SW., Washington, DC 20585-1290; Telephone: (301) 903-4927.

SUPPLEMENTARY INFORMATION:

Purpose of the Meeting: The major purpose of the meeting is for the full Committee to respond to the report from its panel on fusion facilities.

Tentative Agenda

Tuesday, July 19, 2005—

• Office of Science Perspective.

• Office of Fusion Energy Sciences Perspective.

• Presentation by the Fusion Facilities Panel on its findings and recommendations.

• Public Comments.

Wednesday, July 20, 2005—

• Prepare letter to DOE transmitting the facilities panel report.

• Adjourn.

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room; IE-190; Forrestal Building; 1000 Independence Avenue, SW., Washington, DC, between 9 a.m. and 4 p.m., Monday through Friday, except Federal holidays.

Issued at Washington, DC, on June 6, 2005.
Rachel Samuel,
Deputy Committee Management Officer.

[FR Doc. 05-11519 Filed 6-9-05; 8:45 am]

BILLING CODE 6450-01-P